DEPARTMENT OF TRANSPORTATION

Federal Motor Carrier Safety Administration

[Docket No. FMCSA-2007-27357]

Commercial Driver's License Advisory Committee

AGENCY: Federal Motor Carrier Safety Administration, DOT.

ACTION: Notice of meetings of advisory committee.

SUMMARY: This notice sets forth the schedule for the meetings of the Commercial Driver's License (CDL) Advisory Committee. Pursuant to section 4135 of the Safe, Accountable, Flexible, Efficient Transportation Equity Act: A Legacy for Users (SAFETEA-LU), the Secretary of Transportation established this advisory committee to study and address current impediments and foreseeable challenges to the commercial driver's license program's effectiveness and measures needed to realize the full safety potential of the commercial driver's license program. Members of the advisory committee will include State motor vehicle administrators, organizations representing government agencies or officials, members of the Judicial Conference, representatives of the trucking industry, representatives of labor organizations, safety advocates, and other significant stakeholders.

DATES: Meetings of the committee will take place on the following dates:

Meeting 1: March 20-22, 2007

Meeting 2: April 17-19, 2007

Meeting 3: May 15-17, 2007

ADDRESSES: The committee's meetings will be held at the Hilton Arlington, 950 North Stafford Street, Arlington, Virginia 22203.

FOR FURTHER INFORMATION CONTACT: Lloyd E. Goldsmith, Transportation Specialist, CDL Division, at (202) 366-2964 (lloyd.goldsmith@dot.gov), Federal Motor Carrier Safety Administration, 400 7th Street, SW., Room 8310, Washington, DC 20590.

SUPPLEMENTARY INFORMATION: On August 10, 2005, the President signed into law the Safe, Accountable, Flexible, Efficient Transportation Equity Act: A Legacy for Users (Public Law 109-59, 119 Stat.1144). Section 4135 mandates the establishment of a Commercial Driver's License (CDL) Task Force to study and address current impediments and foreseeable challenges to the commercial driver's license program's effectiveness and measures needed to realize the full safety potential of the commercial driver's license program. The CDL program was established by the Commercial Motor Vehicle Safety Act (CMVSA) of 1986 and is codified at 49 U.S.C. Chapter 313.

To carry out this requirement, FMCSA formed an advisory committee, consistent with the standards of the Federal Advisory Committee Act (FACA). See 71 FR 69605, December 1, 2006. The notice requested applications from persons interested in serving as members of the CDL Advisory Committee not later than January 2, 2007. The applications received by the due date have been evaluated and membership recommendations made to the Secretary of Transportation who will appoint members of the committee.

The statutory timetable for this effort is short. Section 4132 of the SAFETEA-LU specifies that not later than 2 years after the date of enactment of this Act (e.g., by August 10, 2007), the Secretary, on behalf of the task force, shall complete a report of findings and recommendations for legislative, regulatory, and enforcement changes to improve the commercial drivers license program and submit the report to the Committee on Commerce, Science, and Transportation of the Senate and the Committee on Transportation and Infrastructure of the House of Representatives. To meet this deadline, FMCSA will conduct a very compressed schedule of Committee meetings. The FMCSA has scheduled three meetings on the following dates:

Meeting 1: March 20-22, 2007

Meeting 2: April 17-19, 2007

Meeting 3: May 15-17, 2007

The meetings of the committee are open to the public. Attendance will be limited by the size of the meeting room. As a general matter, the committee will make one hour available for public comments on the Thursday of each meeting (March 22 April 19, and May 17) from 1-2 p.m. Individuals wishing to address the committee should sign up on the public comment sign-in sheet before 11:30 a.m. The time available will be reasonably divided among those who have signed up, but no one will have more than 15 minutes. Written comments and reports can be given to the facilitator for distribution to the committee members. Persons wanting to present written materials to the committee should make enough copies for the 15 committee members and the facilitator.

The agenda topics for the meetings will include, but not necessarily be limited to, discussion of the following issues:

1. State enforcement practices;

2. Operational procedures to detect and deter fraud;

3. Needed improvements for seamless information sharing between States;

4. Effective methods for accurately sharing electronic data between States;

5. Adequate proof of citizenship;

6. Updated technology; and

7. Timely notification from judicial bodies concerning traffic and criminal convictions of commercial driver's license holders.

The agenda topics presented in this notice are necessarily very general since the direction and nature of the advisory committee discussions will shape each subsequent meeting. The DOT may issue additional notices, as needed, with respect to changes in the schedule or agenda topics.

Issued on February 21, 2007.
Rose A. McMurray,
Assistant Administrator, Chief Safety Officer.

[FR Doc. E7-3481 Filed 2-27-07; 8:45 am]

BILLING CODE 4910-EX-P